DEPARTMENT OF COMMERCE

Submission for OMB Review; Comment Request

The Department of Commerce (DOC) will submit to the Office of Management and Budget (OMB) for clearance the following proposal for collection of information under the provisions of the Paperwork Reduction Act (44 U.S.C. Chapter 35).

Agency: Economic Development Administration (EDA or Agency).

Title: Comprehensive Economic Development Strategies.

OMB Control Number: 0610-0093.

Form Number(s): None.

Type of Request: Regular submission (extension of a currently approved information collection).

Number of Respondents: 527.

Average Hours per Response: 480 hours for the initial CEDS for a District organization or other planning organization funded by EDA; 160 hours for the CEDS revision required at least every 5 years from an EDA-funded District or other planning organization; 40 hours per applicant for EDA Public Works or Economic Adjustment Assistance with a project deemed by EDA to merit further consideration that is not located in an EDA-funded District.

Burden Hours: 31,640.

Type of response | Number of responses | Hours per response | Total estimated time (hours)
Initial CEDS | 3 | 480 hours/initial CEDS | 1,440
Revised CEDS | 77 | 160 hours/revised CEDS | 12,320
CEDS Updates/Performance Reports | 385 | 40 hours/report | 15,400
CEDS by applicants not in EDA-funded District | 62 | 40 hours | 2,480 hours.
Total |  |  | 31,640

Needs and Uses: In order to effectively administer and monitor its economic development assistance programs, EDA collects certain information from applications for, and recipients of, EDA investment assistance. The collection of this information is required to ensure the recipient is complying with EDA's CEDS requirements. A CEDS is required for an eligible applicant to qualify for an EDA investment assistance under its Public Works, Economic Adjustment, and certain planning programs, and is a prerequisite for a region's designation by EDA as an Economic Development District (see 13 CFR 303, 305.2, and 307.2 of EDA's regulations).

A CEDS emerges from a continuing planning process developed and driven by a public sector planning organization by engaging a broad-based and diverse set of stakeholders to address the economic problems and potential of a region. The CEDS should include information about how and to what extent stakeholder input and support was solicited. Information on how the planning organization collaborated with its diverse set of stakeholders (including the public sector, private interests, non-profits, educational institutions, and community organizations) in the development of the CEDS should be included. In accordance with the regulations governing the CEDS (see 13 CFR 303.7), a CEDS must contain a summary background, a SWOT Analysis, Strategic Direction/Action Plan, and an Evaluation Framework. In addition, the CEDS must incorporate the concept of economic resilience (i.e., the ability to avoid, withstand, and recover from economic shifts, natural disasters, etc.). EDA is not proposing any changes to the current information collection request.

Affected Public: Not-for-profit institutions; State, local or Tribal government; Business or other for-profit organizations.

Frequency: At least every 5 years, as explained above.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Sheleen Dumas,
Departmental Lead PRA Officer, Office of the Chief Information Officer.

[FR Doc. 2018-18635 Filed 8-28-18; 8:45 am]

BILLING CODE 3510-34-P